DEPARTMENT OF HEALTH AND HUMAN SERVICES

National Institutes of Health

National Cancer Institute; Amended Notice of Meeting

Notice is hereby given of a change in the meeting of the National Cancer Institute Special Emphasis Panel, September 24, 2020, 11:00 a.m. to September 24, 2020, 2:30 p.m., National Cancer Institute Shady Grove, 9609 Medical Center Drive, Rockville, MD, 20850 which was published in the Federal Register on August 11, 2020, 85 FR 48546.

This notice is being amended to change the meeting name from “National Cancer Institute Special Emphasis Panel Provocative Question 7” to “National Cancer Institute Special Emphasis Panel SEP-7: Research Answers to NCI Provocative Questions”. The meeting is closed to the public.

Dated: August 12, 2020.
Melanie J. Pantoja,
Program Analyst, Office of Federal Advisory Committee Policy.

[FR Doc. 2020-17969 Filed 8-17-20; 8:45 am]

BILLING CODE 4140-01-P